DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on August 6, 2025. See Supplementary Information for relevant dates.

FOR FURTHER INFORMATION CONTACT: OFAC: Associate Director for Global Targeting, 202-622-2420; or Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action(s)

On August 6, 2025, OFAC determined that the persons identified below meet one or more of the criteria for the imposition of sanctions set forth in section 1(a)-(c) of Executive Order 14059 of December 15, 2021, “Imposing Sanctions on Foreign Persons Involved in the Global Illicit Drug Trade,” 86 FR 71549 (December 17, 2021) (E.O. 14059). OFAC has selected to impose blocking sanctions pursuant to section 2(a)(i) of E.O. 14059 on the persons identified below.

OFAC further determined that the persons identified below meet one or more of the criteria for designation pursuant to Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended).

As a result, the property and interests in property subject to U.S. jurisdiction of the following persons are blocked under the relevant sanctions authorities listed below.

Individuals

1. RODRIGUEZ GARCIA, Abdon Federico (a.k.a. “Comandante Cucho”; a.k.a. “Cucho”), Nuevo Laredo, Tamaulipas, Mexico; DOB 16 Jan 1984; POB Nuevo Laredo, Tamaulipas, Mexico; nationality Mexico; Gender Male; Secondary sanctions risk: section 1(b) of Executive Order 13224, as amended by Executive Order 13886; C.U.R.P. ROGA840116HTSDRB06 (Mexico) (individual) [SDGT] [ILLICIT-DRUGS-EO14059] (Linked To: CARTEL DEL NORESTE).

Designated pursuant to section 1(b)(iii) of E.O. 14059 for being owned, controlled, or directed by, or having acted or purported to act for or on behalf of, directly or indirectly, CARTEL DEL NORESTE, a person sanctioned pursuant to E.O. 14059.

Designated pursuant to section 1(a)(iii)(A) of E.O. 13224, as amended, for being owned, controlled, or directed by, or having acted or purported to act for or on behalf of, directly or indirectly, CARTEL DEL NORESTE, a person whose property and interests in property are blocked pursuant to E.O. 13224, as amended.

2. ROMERO SANCHEZ, Antonio (a.k.a. “Comandante R”; a.k.a. “Comandante Romeo”; a.k.a. “Romeo”), Piedras Negras, Coahuila, Mexico; Victoria, Tamaulipas, Mexico; DOB 27 Jul 1984; POB Veracruz, Mexico; nationality Mexico; Gender Male; Secondary sanctions risk: section 1(b) of Executive Order 13224, as amended by Executive Order 13886; C.U.R.P. ROSA840727HVZMNN06 (Mexico) (individual) [SDGT] [ILLICIT-DRUGS-EO14059] (Linked To: CARTEL DEL NORESTE).

Designated pursuant to section 1(b)(iii) of E.O. 14059 for being owned, controlled, or directed by, or having acted or purported to act for or on behalf of, directly or indirectly, CARTEL DEL NORESTE, a person sanctioned pursuant to E.O. 14059.

Designated pursuant to section 1(a)(iii)(A) of E.O. 13224, as amended, for being owned, controlled, or directed by, or having acted or purported to act for or on behalf of, directly or indirectly, CARTEL DEL NORESTE, a person whose property and interests in property are blocked pursuant to E.O. 13224, as amended.

3. ESQUEDA NIETO, Francisco Daniel (a.k.a. ESQUEDA, Franky; a.k.a. “ESKEDA, Franki”; a.k.a. “Franky De La Joya”), Nuevo Laredo, Tamaulipas, Mexico; DOB 23 Oct 1994; POB Nuevo Laredo, Tamaulipas, Mexico; nationality Mexico; Gender Male; Secondary sanctions risk: section 1(b) of Executive Order 13224, as amended by Executive Order 13886; C.U.R.P. EUNF941023HTSSTR02 (Mexico) (individual) [SDGT] [ILLICIT-DRUGS-EO14059] (Linked To: CARTEL DEL NORESTE).

Designated pursuant to section 1(b)(iii) of E.O. 14059 for being owned, controlled, or directed by, or having acted or purported to act for or on behalf of, directly or indirectly, CARTEL DEL NORESTE, a person sanctioned pursuant to E.O. 14059.

Designated pursuant to section 1(a)(iii)(A) of E.O. 13224, as amended, for being owned, controlled, or directed by, or having acted or purported to act for or on behalf of, directly or indirectly, CARTEL DEL NORESTE, a person whose property and interests in property are blocked pursuant to E.O. 13224, as amended.

4. HERNANDEZ MEDRANO, Ricardo (a.k.a. “Comando Exclusivo”; a.k.a. “El Makabelico”; a.k.a. “HERNANDEZ, Ricardo”), Nuevo Laredo, Tamaulipas, Mexico; DOB 13 Apr 1991; POB Nuevo Laredo, Tamaulipas, Mexico; nationality Mexico; Gender Male; Secondary sanctions risk: section 1(b) of Executive Order 13224, as amended by Executive Order 13886; C.U.R.P. HEMR910413HTSRDC06 (Mexico) (individual) [SDGT] [ILLICIT-DRUGS-EO14059] (Linked To: CARTEL DEL NORESTE).

Designated pursuant to section 1(b)(iii) of E.O. 14059 for being owned, controlled, or directed by, or having acted or purported to act for or on behalf of, directly or indirectly, CARTEL DEL NORESTE, a person sanctioned pursuant to E.O. 14059.

Designated pursuant to section 1(a)(iii)(A) of E.O. 13224, as amended, for being owned, controlled, or directed by, or having acted or purported to act for or on behalf of, directly or indirectly, CARTEL DEL NORESTE, a person whose property and interests in property are blocked pursuant to E.O. 13224, as amended.

Dated: August 6, 2025.
Bradley T. Smith,
Director, Office of Foreign Assets Control.

[FR Doc. 2025-15113 Filed 8-7-25; 8:45 am]

BILLING CODE 4810-AL-P